DEPARTMENT OF AGRICULTURE

Animal and Plant Health Inspection Service

[Docket No. 00-100-1]

Notice of Request for Extension of Approval of an Information Collection

AGENCY: Animal and Plant Health Inspection Service, USDA.

ACTION: Extension of approval of an information collection; comment request.

SUMMARY: In accordance with the Paperwork Reduction Act of 1995, this notice announces the Animal and Plant Health Inspection Service's intention to request an extension of approval of an information collection in support of our seed analysis program with Canada.

DATES: We invite you to comment on this docket. We will consider all comments that we receive by January 2, 2001.

ADDRESSES: Please send your comment and three copies to: Docket No. 00-100-1, Regulatory Analysis and Development, PPD, APHIS, Suite 3C03, 4700 River Road, Unit 118, Riverdale, MD 20737-1238.

Please state that your comment refers to Docket No. 00-100-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: For information regarding the importation and interstate movement of foreign agricultural and vegetable seeds, contact Ms. Polly Lehtonen, Botanist, Permits and Risk Assessments, PPQ, APHIS, 4700 River Road Unit 133, Riverdale, MD 20737-1236; (301) 734-4394. For copies of more detailed information on the information collection, contact Mrs. Celeste Sickles, APHIS' Information Collection Coordinator, at (301) 734-7477.

SUPPLEMENTARY INFORMATION: Title: Imported Seed and Screenings.

OMB Number: 0579-0124.

Expiration Date of Approval: November 30, 2000.

Type of Request: Extension of approval of an information collection.

Abstract: The United States Department of Agriculture (USDA) is responsible for preventing foreign plant pests from entering the United States, preventing the spread of pests not widely distributed within the United States, and eradicating those pests when eradication is feasible. The Plant Protection Act (PPA) authorizes the Department to carry out this mission.

The Plant Protection and Quarantine (PPQ) division of USDA's Animal and Plant Health Inspection Service (APHIS) is responsible for implementing the regulations that carry out the PPA.

Under the authority of the Federal Seed Act of 1939 (FSA), as amended, the USDA regulates the importation and interstate movement of certain agricultural and vegetable seeds.

Specifically, our regulations are designed to implement Title III of the FSA, “Foreign Commerce,” which requires shipments of imported agricultural and vegetable seeds to be labeled correctly and to be tested for the presence of noxious weeds as a condition of entry into the United States.

Under the authority of the FSA, we have established a seed analysis program with Canada that allows U.S. companies that import seed for cleaning or processing to enter into compliance agreements with us (APHIS). This program eliminates the need for sampling shipments of Canadian-origin seed at the border and allows certain seed importers to clean seed without the direct supervision of an APHIS inspector. In this way, the importation of Canadian-origin seeds into the United States is safely expedited without compromising the precautions we take to ensure that imported seeds do not pose a health threat to U.S. agriculture.

Our seed analysis program entails the use of several information collection activities, including requirements for a declaration of importation, container labeling, notification of seed location, a seed return request, seed analysis certificates, seed identity maintenance, and associated recordkeeping.

We are asking the Office of Management and Budget (OMB) to approve, for an additional 3 years, our use of these information collection activities in connection with our seed analysis program.

The purpose of this notice is to solicit comments from the public (as well as affected agencies) concerning this information collection activity. These comments will help us:

(1) Evaluate whether the information collection is necessary for the proper performance of our Agency's functions, including whether the information will have practical utility;

(2) Evaluate the accuracy of our estimate of the burden of the information collection, including the validity of the methodology and assumptions used;

(3) Enhance the quality, utility, and clarity of the information to be collected; and

(4) Minimize the burden of the collection of information on those who are to respond, through use, as appropriate, of automated, electronic, mechanical, and other collection technologies, e.g., permitting electronic submission of responses.

Estimate of burden: The public reporting burden for this collection of information is estimated to average 15 minutes per response.

Respondents: Importers of Canadian seeds, seed cleaning/processing facility personnel, and Agri-Food Canada officials.

Estimated annual number of respondents: 1,200.

Estimated annual number of responses per respondent: 25.

Estimated annual number of responses: 30,000.

Estimated total annual burden on respondents: 11,555 hours. (Due to rounding, the total annual burden hours may not equal the product of the annual number of responses multiplied by the average reporting burden per response.)

All responses to this notice will be summarized and included in the request for OMB approval. All comments will also become a matter of public record.

Done in Washington, DC, this 27th day of October 2000.
Bobby R. Acord,
Acting Administrator, Animal and Plant Health Inspection Service.

[FR Doc. 00-28006 Filed 10-31-00; 8:45 am]

BILLING CODE 3410-34-U